DEPARTMENT OF JUSTICE

Notice of Lodging of Consent Decree Under the Comprehensive Environmental Response, Compensation, and Liability Act

Notice is hereby given that on July 11, 2001, a proposed Consent Decree in United States v. Fullco Lumber Co., Inc., and David Howell, Civil Action Number CV-01-J-1726-J was lodged with the United States District Court for the Northern District of Alabama.

In this action, the United States sought reimbursement of past response costs under Section 107(a) of the Comprehensive Environmental Response, Compensation, and Liability Act (“CERCLA”), 42 U.S.C. 9607(a), for costs incurred by the United States for response actions performed at or in connection with the Fullco Lumber Co., Inc., Superfund Site located in Haleyville, Marion County, Alabama (the “Site”). Under the proposed Consent Decree, Defendant Fullco Lumber Co., Inc. has agreed to pay a total of $320,000.00 plus interest through the date of the payment and Defendant David Howell has agreed to pay a total of $68,000.00, in reimbursement of the United States' past response costs. In addition to the above payments, Settling Defendants shall pay to EPA 100 percent of the net sales proceeds of the Transfer of the Property.

The Department of Justice will receive for a period of thirty (30) days from the date of this publication comments relating to the Consent Decree. Comments should be addressed to the Assistant Attorney General, Environment and Natural Resources Division, PO Box 7611, U.S. Department of Justice, Washington, DC 20044-7611, and should refer to United States v. Fullco Lumber Co., Inc. and David Howell, Civil Action Number CV-01-J-1726-J, D.J. Ref. 90-11-3-06897.

The Consent Decree may be examined at the Office of the United States Attorney, Suite 200, Robert S. Vance Federal Building, 1800 5th Avenue North, Birmingham, AL 35203, and at U.S. EPA Region 4, 61 Forsyth Street, Atlanta, GA 30303. A copy of the Consent Decree may also be obtained by mail from the Consent Decree Library, PO Box 7611, U.S. Department of Justice, Washington, DC 20044-7611. In requesting a copy, please enclose a check in the amount of $8.00 (25 cents per page reproduction cost) payable to the Consent Decree Library.

Ellen Mahan,
Assistant Chief, Environmental Enforcement Section, Environment and Natural Resources Division.

[FR Doc. 01-23166 Filed 9-14-01; 8:45 am]

BILLING CODE 4410-15-M